DEPARTMENT OF THE TREASURY

Internal Revenue Service

Office of the General Counsel; Appointment of Members of the Legal Division to the Performance Review Board

Under the authority granted to me as Chief Counsel of the Internal Revenue Service by the General Counsel of the Department of the Treasury by General Counsel Order No. 21 (Rev. 4), pursuant to the Civil Service Reform Act, I have appointed the following persons to the Legal Division Performance Review Board, Internal Revenue Service Panel:

1. Chairperson, Judith C. Dunn, Deputy Chief Counsel (Operations);

2. Thomas M. McGivern, Counselor to the General Counsel;

3. Cynthia J. Mattson, Deputy Division Counsel (Large and Mid-Size Business);

4. Martha Sullivan , Deputy Division Counsel #2 (Small Business/Self Employed);

5. Richard J. Mihelcic, Associate Chief Counsel (Finance and Management);

6. Heather C. Maloy, Associate Chief Counsel (Income Tax and Accounting);

7. Joseph F. Maselli, Area Counsel (Large and Mid-Size Business)(Area 2)(Heavy Manufacturing, Construction and Transportation).

In addition, I hereby appoint the following persons to serve on the Performance Review Board for the Deputies Chief Counsel:

8. Robert E. Wenzel, Deputy Commissioner of Internal Revenue; and

9. Eric Solomon, Acting Deputy Assistant Secretary (Tax Policy).

This publication is required by 5 U.S.C. 4314(c)(4).

Dated: October 23, 2000.
Stuart L. Brown,
Chief Counsel, Internal Revenue Service.

[FR Doc. 00-27694 Filed 10-26-00; 8:45 am]

BILLING CODE 4830-01-P